DEPARTMENT OF THE INTERIOR

National Park Service

[NPS-WASO-NAGPRA-NPS0027342; PPWOCRADN0-PCU00RP14.R50000]

Native American Graves Protection and Repatriation Review Committee Finding Regarding Human Remains and Associated Funerary Objects Under the Control of the State of Missouri Department of Natural Resources, State Historic Preservation Office, Jefferson City, MO

AGENCY: National Park Service, Interior.

ACTION: Notice.

SUMMARY: The National Park Service is publishing this notice as part of its administrative responsibilities pursuant to the Native American Graves Protection and Repatriation Act (NAGPRA or the Act). The recommendations, findings, and actions in this notice are advisory only and are not binding on any person. On October 17, 2018, the Native American Graves Protection and Repatriation Review Committee (Review Committee) found that there is not a reasonable basis to make a cultural affiliation determination for the human remains and associated funerary objects from the Clarksville Mound Group site and the Sac & Fox NAGPRA Confederacy at this time.

ADDRESSES: The meeting transcript containing the Review Committee proceedings and deliberation for this finding are available online at www.nps.gov/nagpra/Review or from the National NAGPRA Program upon request (NAGPRA_Info@nps.gov).

SUPPLEMENTARY INFORMATION: The recommendations, findings, and actions of the Review Committee are advisory only and not binding on any person. These advisory findings do not necessarily represent the views of the National Park Service or Secretary of the Interior. The National Park Service and the Secretary of the Interior have not taken a position on these matters.

At its October 17, 2018, public meeting in Washington, DC, the Review Committee heard a request, pursuant to 25 U.S.C. 3006(c)(3)(A), from the Missouri Department of Natural Resources, State Historic Preservation Office (SHPO). The SHPO requested that the Review Committee make a finding on the following question: Based on the information in the possession of the SHPO, are the identified human remains and associated funerary objects from the Clarksville Mound Group (site 23PI6), in Pike County, MO, culturally affiliated with the Sac & Fox Nation of Missouri in Kansas and Nebraska; Sac & Fox Nation, Oklahoma; and Sac & Fox Tribe of the Mississippi in Iowa (hereafter referred to as the Sac & Fox NAGPRA Confederacy).

Human remains representing, at minimum, 29 individuals were removed from the Clarksville Mound Group (site 23PI6) along with two associated funerary objects—one lot of ancalusa shell beads and one Scallorn point. On July 30, 2013, the SHPO published a Notice of Inventory Completion in the Federal Register (78 FR 45960-45961) for the human remains and associated funerary objects removed from the Clarksville Mound Group site and determined that a relationship of shared group identity could be reasonably traced between the human remains and associated funerary objects and the Sac & Fox NAGPRA Confederacy.

On August 15, 2018, the SHPO requested that the Review Committee consider the information in the SHPO's possession related to the cultural affiliation determination of the Clarksville Mound Group site with the Sac & Fox NAGPRA Confederacy. The SHPO requested that the Review Committee advise the SHPO as to whether or not a relationship of shared group identity can be reasonably traced between the present-day Sac & Fox NAGPRA Confederacy and the human remains and associated funerary objects removed from the Clarksville Mound Group. The Designated Federal Officer for the Review Committee agreed to the request.

Finding of Fact: Five Review Committee members currently appointed by the Secretary of the Interior participated in the request to make a finding of fact related to cultural affiliation. By a vote of four to one, the Review Committee found that “there is not a reasonable basis to make a cultural affiliation determination for the human remains and associated funerary objects from the Clarksville Mound Group site and the Sac & Fox NAGPRA Confederacy at this time.”

Dated: December 21, 2018.
Patrick Lyons,
Chair, Native American Graves Protection and Repatriation Review Committee.

Editorial note: This document was received for publication by the Office of the Federal Register on March 29, 2019.

[FR Doc. 2019-06474 Filed 4-2-19; 8:45 am]

BILLING CODE 4312-52-P